DEPARTMENT OF ENERGY

Federal Energy Regulatory Commission

[Docket No. PR00-16-000]

Transok, LLC; Notice of Petition for Rate Approval

June 8, 2000.

Take notice that on June 1, 2000, Transok, LLC (Transok) filed, pursuant to section 284.123(b)(2) of the Commission's regulations, a petition for market-based rate approval for natural gas storage services which Transok provides under section 311(a)(2) of the Natural Gas Policy Act of 1978 (NGPA), from its Greasy Creek Storage Facility. Transok is currently authorized to provide up to 4 Bcf of natural gas storage services at market-based rates. See Transok, Inc., 64 FERC § 61,095 (1993). By the referenced petition, Transok proposes to increase the capacity used to support market-based storage services to the full amount of working gas capacity available at the Greasy Creek Storage Facility.

Transok's petition states that it is an intrastate pipeline within the meaning of section 2(16) of the NGPA. The Greasy Creek Storage Facility has an estimated total capacity of 26 Bcf, an estimated working gas capacity of 18 Bcf, and a maximum daily deliverability of 450,000 Mcf at a maximum operation pressure of 790 psig. The Greasy Creek Storage Facility consists of 33 injection/withdrawal wells and 6 observation wells, and is connected to Transok's Oklahoma Transmission System by 10.5 miles of pipeline.

Transok avers that it continues to have no market power in any relevant product or geographic market for storage services, and has submitted with its petition a study which, according to Transok, supports this conclusion.

Transok also proposes to make certain minor changes, clarifications and corrections to the Transok Statement of Conditions for Gas Storage (Statement) and General Terms and Conditions to Transok's Storage Service Agreements (GT&C) in order to update those documents. Transok has submitted a revised Statement and GT&C with its petition for market-based storage rates.

Questions concerning Transok's petition should be directed to James F. Bowe, Jr., Dewey Ballantine LLP, 1775 Pennsylvania Avenue, NW., Washington, DC 20006-4605, telephone (202) 429-1444, fax (202) 429-1579, e-mail jbowe@deweyballantine.com.

Pursuant to section 284.123(b)(2)(ii) of the Commission's regulations, if the Commission does not act within 150 days of the filing date, the rates Transok proposes will be deemed to be fair and equitable. The Commission may, prior to the expiration of the 150 day period, extend the time for action or institute a proceeding to afford parties an opportunity for written comments and for the oral presentation of views, data and arguments.

Any person desiring to participate in this rate proceeding must file a motion to intervene or protest with the Federal Energy Regulatory Commission, 888 First Street, NE., Washington, DC 20426, in accordance with rules 211 and 214 of the Commission's Rules of Practice and Procedure (18 CFR 385.211 and 385.214). All motions must be filed with the Secretary of the Commission on or before June 22, 2000. This petition for rate approval is on file with the Commission and is available for public inspection. This filing may be viewed on the web at http://www.ferc.fed.us/online/rims.htm (call 202-208-2222 for assistance).

David P. Boergers,
Secretary.

[FR Doc. 00-14924 Filed 6-13-00; 8:45 am]

BILLING CODE 6717-01-M